DEPARTMENT OF VETERANS AFFAIRS

Advisory Committee on Minority Veterans, Amended Notice of Meeting

The Department of Veterans Affairs (VA) gives notice under the Federal Advisory Committee Act, 5 U.S.C. App. 2 that a meeting of the Advisory Committee on Minority Veterans will be held in Albuquerque, New Mexico from April 11-13, 2017, at the below times and locations:

On April 11, from 8:45 a.m. to 3:15 p.m., at the New Mexico VA Health Care System (HCS), Building 41, Main Hospital, 4th Floor, Performance Improvement Conference Room 4A-160, 1501 San Pedro Dr., SE., Albuquerque, New Mexico; from 4:00 p.m. to 5:00 p.m., at the Albuquerque Regional Benefit Office, Dennis Chavez Federal Building, 500 Gold Avenue SW., Albuquerque, New Mexico.

On April 12, from 9:00 a.m. to 11:15 a.m., at the Santa Fe National Cemetery, 501 North Guadalupe Street, Santa Fe, NM; from 4:30 p.m. to 6:30 p.m., conducting a Town Hall Meeting at the Indian Pueblo Cultural Center, 2401 12th St. NW., Albuquerque, NM.

On April 13, from 8:45 a.m. to 4:45 p.m., at the New Mexico VA Health Care System (HCS), Building 41, Main Hospital, 4th Floor, Performance Improvement Conference Room 4A-160, 1501 San Pedro Dr. SE., Albuquerque, NM.

The purpose of the Committee is to advise the Secretary on the administration of VA benefits and services to minority Veterans, to assess the needs of minority Veterans and to evaluate whether VA compensation and pension, medical and rehabilitation services, memorial services outreach, and other programs are meeting those needs. The Committee will make recommendations to the Secretary regarding such activities subsequent to the meeting.

On the morning of April 11 from 9:00 a.m. to 11:00 a.m., the Committee will meet in open session with key staff at the New Mexico Health Care System to discuss services, benefits, delivery challenges, and successes. From 11:00 a.m. to 12:00 p.m., the Committee will convene a closed session in order to protect patient privacy as the Committee tours the VA Health Care System. In the afternoon from 1:45 p.m. to 3:15 p.m., the Committee will reconvene as the Committee is briefed by senior Veterans Benefits Administration staff from the Albuquerque Regional Benefit Office. From 4:00 p.m. to 5:00 p.m., the Committee will convene a closed session in order to protect patient records as the Committee tours the Regional Benefit office.

On the morning of April 12 from 9:15 a.m. to 11:15 a.m., the Committee will convene in open session at the Santa Fe National Cemetery followed by a tour of the cemetery. The Committee will meet with key staff to discuss services, benefits, delivery challenges and successes. In the evening, the Committee will hold a Veterans Town Hall meeting beginning at 4:30 p.m., at the Indian Pueblo Cultural Center.

On the morning of April 13 from 8:45 a.m. to 12:00 p.m., the Committee will convene in open session at the New Mexico Health Care System to conduct an exit briefing with leadership from the New Mexico Health Care System, Albuquerque Regional Benefit Office, and Santa Fe National Cemetery. In the afternoon from 1:00 p.m. to 4:00 p.m., the Committee will work on drafting recommendations for the annual report to the Secretary.

Portions of these visits are closed to the public in accordance with 5 U.S.C. 552b(c)(6). Exemption 6 permits to Committee to close those portions of a meeting that is likely to disclose information of a personal nature where disclosure would constitute a clearly unwarranted invasion of personal privacy. During the closed sessions the Committee will discuss VA beneficiary and patient information in which there is a clear unwarranted invasion of the Veteran or beneficiary privacy.

Time will be allocated for receiving public comments on April 13, at 10 a.m. Public comments will be limited to three minutes each. Individuals wishing to make oral statements before the Committee will be accommodated on a first-come first serve basis. Individuals who speak are invited to submit a 1-2 page summaries of their comments at the time of the meeting for inclusion in the official record. The Committee will accept written comments from interested parties on issues outlined in the meeting agenda, as well as other issues affecting minority Veterans. Such comments should be sent to Ms. Juanita Mullen, Advisory Committee on Minority Veterans, Center for Minority Veterans (00M), Department of Veterans Affairs, 810 Vermont Avenue NW., Washington, DC 20420, or email at Juanita.Mullen@va.gov. For additional information about the meeting, please contact Ms. Juanita Mullen at (202) 461-6199.

Dated: March 28, 2017.
Jelessa M. Burney,
Federal Advisory Committee Management Office.

[FR Doc. 2017-06416 Filed 3-31-17; 8:45 am]

BILLING CODE P